DEPARTMENT OF COMMERCE

International Trade Administration

[A-351-503, A-122-503, A-570-502, C-351-504]

Certain Iron Construction Castings From Brazil, Canada, and the People's Republic of China: Continuation of Antidumping and Countervailing Duty Orders

AGENCY: Enforcement and Compliance, International Trade Administration, Department of Commerce.

SUMMARY: As a result of the determinations by the U.S. Department of Commerce (Commerce) and the International Trade Commission (ITC) that revocation of the antidumping duty (AD) and countervailing duty (CVD) orders on iron construction castings from Brazil, Canada, and the People's Republic of China would likely lead to continuation or recurrence of dumping, countervailable subsidies, and material injury to an industry in the United States, Commerce is publishing a notice of continuation of these AD and CVD orders.

DATES: Applicable June 3, 2022.

FOR FURTHER INFORMATION CONTACT: Christopher Hargett, AD/CVD Operations, Office II, Enforcement and Compliance, International Trade Administration, U.S. Department of Commerce, 1401 Constitution Avenue NW, Washington, DC 20230; telephone: (202) 482-4161.

SUPPLEMENTARY INFORMATION:

Background

On March 5, 1986, May 9, 1986, and May 15, 1986, Commerce published the AD and CVD orders on iron construction castings from Brazil, Canada, and the People's Republic of China (China).¹ On December 1, 2021, the ITC instituted,² and Commerce initiated,³ the fifth five-year (sunset) reviews of these AD and CVD orders, pursuant to section 751(c) of the Tariff Act of 1930, as amended (the Act). As a result of its reviews, Commerce determined that revocation of the Orders would be likely to lead to continuation or recurrence of dumping and countervailable subsidies and, therefore, notified the ITC of the magnitude of the margins and net subsidy rates likely to prevail should the Orders be revoked.⁴ On May 18, 2022, the ITC published its determinations, pursuant to sections 751(c) and 752(a) of the Act, that revocation of the Orders would likely lead to continuation or recurrence of material injury to an industry in the United States within a reasonably foreseeable time.⁵

¹ See Antidumping Duty Order: Iron Construction Castings from Canada, FR 51 7600 (March 5, 1986), amended by Iron Construction Castings from Canada; Amendment to Final Determination of Sales at Less Than Fair Value and Amendment to Antidumping Duty Order, 51 FR 34110 (September 25, 1986) (Canada Order); Antidumping Duty Order: Iron Constructions Castings from Brazil, 51 FR 17220 (May 9, 1986); Antidumping Duty Order: Iron Constructions Castings from the People's Republic of China (the PRC), 51 FR 17222 (May 9, 1986) (China Order); Countervailing Duty Order; Certain Heavy Iron Construction Castings from Brazil, 51 FR 17786 (May 15, 1986) (Brazil Order) (collectively, Orders).

² See Iron Construction Castings from Brazil, Canada, and China; Institution of Five-Year Reviews, 86 FR 68283 (December 1, 2021).

³ See Initiation of Five Year (Sunset) Reviews, 86 FR 68220 (December 1, 2021).

⁴ See Certain Iron Construction Castings from Brazil, Canada and the People's Republic of China: Final Results of Expedited Fifth Sunset Review of Antidumping Duty Orders, 87 FR 14821 (March 16, 2022), and accompanying Issues and Decision Memorandum (IDM); Heavy Iron Construction Castings from Brazil: Final Results of the Expedited Fifth Sunset Review of the Countervailing Duty Order, 87 FR 19484 (April 4, 2022), and accompanying IDM.

⁵ See Iron Construction Castings from Brazil, Canada, and China (Investigation Nos. 701-TA-249 and 731-TA-262-263 and 265 (Fifth Review)), 87 FR 30264 (May 18, 2022).

Scope of the Orders

Brazil

The merchandise covered by the Brazil Order consists of certain iron construction castings from Brazil, limited to manhole covers, rings, and frames, catch basin grates and frames, cleanout covers and frames used for drainage or access purposes for public utility, water and sanitary systems, classifiable as heavy castings under Harmonized Tariff Schedule (HTS) item numbers 7325.10.0010 7325.10.0020, 7325.10.0025; and to valve, service, and meter boxes which are placed below ground to encase water, gas, or other valves, or water and gas meters, classifiable as light castings under HTS item numbers 7325.10.0030, 7325.10.0035, 7325.99.1000. The HTS item numbers are provided for convenience and customs purposes only. The written description remains dispositive.

Canada

The merchandise covered by the Canada Order consists of certain iron construction castings from Canada, limited to manhole covers, rings, and frames, catch basin grates and frames, clean-out covers, and frames used for drainage or access purposes for public utility, water and sanitary systems, classifiable as heavy castings under HTS item numbers 7325.10.0010, 7325.10.0020, 7325.10.0025, 7325.99.1000. The HTS item numbers are provided for convenience and customs purposes only. The written description remains dispositive.

China

The products covered by the China Order are certain iron construction castings, limited to manhole covers, rings and frames, catch basin grates and frames, cleanout covers and drains used for drainage or access purposes for public utilities, water and sanitary systems; and valve, service, and meter boxes which are placed below ground to encase water, gas, or other valves, or water or gas meters. These articles must be of cast iron, not alloyed, and not malleable. This merchandise is currently classifiable under the HTS item number 7325.10.0010 and 7325.10.0050. The HTS item numbers are provided for convenience and customs purposes. The written product description remains dispositive.

Continuation of the Orders

As a result of the determinations by Commerce and the ITC that revocation of the Orders would likely lead to a continuation or a recurrence of dumping and countervailable subsidies and of material injury to an industry in the United States, pursuant to section 751(d)(2) of the Act and 19 CFR 351.218(a), Commerce hereby orders the continuation of the Orders. U.S. Customs and Border Protection will continue to collect AD and CVD cash deposits at the rates in effect at the time of entry for all imports of subject merchandise. The effective date of the continuation of the Orders will be the date of publication in the Federal Register of this notice of continuation. Pursuant to section 751(c)(2) of the Act and 19 CFR 351.218(c)(2), Commerce intends to initiate the next five-year review of the Orders not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

Notification to Interested Parties

These five-year (sunset) reviews and this notice are in accordance with sections 751(c) of the Act, and published in accordance with section 777(i) of the Act and 19 CFR 351.218(f)(4).

Dated: May 26, 2022.
Lisa W. Wang,
Assistant Secretary for Enforcement and Compliance.

[FR Doc. 2022-11864 Filed 6-2-22; 8:45 am]

BILLING CODE 3510-DS-P